DEPARTMENT OF LABOR

Occupational Safety and Health Administration

[Docket No. ICR-1218-0208(2001)]

Anhydrous Ammonia Standard (29 CFR 1910.111); Extension of the Office of Management and Budget's Approval of Information-Collection (Paperwork) Requirements

AGENCY: Occupational Safety and Health Administration (OSHA), Labor.

ACTION: Notice of an opportunity for public comment.

SUMMARY: OSHA solicits public comment to decrease the existing burden-hour estimate and extend the information-collection requirements specified in the Anhydrous Ammonia Standard (29 CFR 1910.111).

DATE: Submit written comments on or before June 25, 2001.

ADDRESSES: Submit written comments to the Docket Office, Docket No. ICR-1218-0208(2001), OSHA, U.S. Department of Labor, Room N-2625, 200 Constitution Avenue, NW., Washington, DC 20210; telephone: (202) 693-2350. Commenters may transmit written comments of 10 pages or less by facsimile to: (202) 693-1948.

FOR FURTHER INFORMATION CONTACT: Theda Kenney, Directorate of Safety Standards Programs, OSHA, U.S. Department of Labor, Room N-3609, 200 Constitution Avenue, NW., Washington, DC 20210; telephone: (202) 693-2222. A copy of the Agency's Information-Collection Request (ICR) supporting the need for the information collections specified in the Anhydrous Ammonia Standard is available for inspection and copying in the Docket Office, or by requesting a copy from Theda Kenney at (202) 693-2222 or Todd Owen at (202) 693-2444. For electronic copies of the ICR, contact OSHA on the Internet at http://www.osha.gov/complinks.html, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and costs) is minimal, collection instruments are clearly understood, and OSHA's estimate of the information-collection burden is correct.

Paragraphs (b)(3) and (b)(4) of the Anhydrous Ammonia Standard have paperwork requirements that apply to nonrefrigerated containers and systems and refrigerated containers, respectively; employers use these containers and systems to store and transfer anhydrous ammonia in the workplace. Paragraph (b)(3) specifies that systems have nameplates if required, and that these nameplates “be permanently attached to the system so as to be readily accessible for inspection. * * *” In addition, this paragraph requires that markings on containers and systems covered by paragraphs (c) (“Systems utilizing stationary, nonrefrigerated storage containers”), (f) (“Tank Motor vehicles for the transportation of ammonia”), (g) (“Systems mounted on farm vehicles other than for the application of ammonia”), and (h) (“Systems mounted on farm vehicles for the application of ammonia”) provide information regarding nine specific characteristics of the containers and systems. Similarly, paragraph (b)(4) states that information regarding eight specific characteristics of each container “shall be on the container itself or on a nameplate permanently attached to it.”

The required makings ensure that employers use only properly designed and tested containers and systems to store anhydrous ammonia, thereby preventing accidental release of, and exposure of employees to, this highly toxic and corrosive substance. In addition, these requirements provide the most efficient means for an OSHA compliance officer to ensure that the containers and systems are safe.

II. Special Issues for Comment

OSHA has a particular interest in comments on the following issues:

• Whether the proposed information-collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information-collection and -transmission techniques.

III. Proposed Actions

OSHA proposes to decrease the existing burden-hour estimate, and to extend the Office of Management and Budget's (OMB) approval, of the collection-of-information requirements specified in paragraphs (b)(3) and (b)(4) of the Anhydrous Ammonina Standard (29 CFR 1910.111). In this regard, the Agency is propossing to decrease the current burden-hour estimate from 2,500 hours to 53 hours, a total reduction of 2,447 hours. OSHA will summarize the comments submitted in response to this notice, and will include this summary in its request to OMB to extend the approval of these information-collection requirements.

Type of Review: Extension of a currently-approved information-collection requirement.

Title: Paragraphs (b)(3) and (b)(4) of the Anhydrous Ammonia Standard (29 CFR 1910.111).

OMB Number: 1218-0208.

Affected Public: Business or other for-profit; not-for-profit institutions; farms; Federal government; State, local or tribal governments.

Number of Respondents: 330.

Frequency: Occasionally.

Average Time per Response: 10 minutes (0.16 hours).

Estimated Total Burden Hours: 53 hours.

VI. Authority and Signature

R. Davis Layne, Acting Assistant Secretary of Labor for Occupational Safety and Health, directed the preparation of this notice. The authority for this notice is the Paperwork Reduction Act of 1995 (44 U.S.C. 3506) and Secretary of Labor's Order No. 3-2000 (65 FR 50017).

Dated: Signed at Washington, DC on April 19, 2001.
R. Davis Layne,
Acting Assistant Secretary of Labor.

[FR Doc. 01-10213 Filed 4-24-01; 8:45 am]

BILLING CODE 4510-26-M